DEPARTMENT OF ENERGY

[Docket No. EERE-2015-BT-TP-0015]

RIN 1904-AD54

Energy Conservation Program: Test Procedures for Small, Large, and Very Large Air-Cooled Commercial Package Air Conditioning and Heating Equipment

AGENCY: Office of Energy Efficiency and Renewable Energy, Department of Energy.

ACTION: Proposed rule; reopening of public comment period.

SUMMARY: On August 6, 2015, the U.S. Department of Energy (DOE) published a notice of proposed rulemaking (NOPR) in the Federal Register regarding proposed amendments to the test procedures for small, large, and very large air-cooled commercial package air conditioning and heating equipment. DOE also held a related public meeting on September 4, 2015. The comment period for the NOPR was scheduled to end September 8, 2015. After receiving a request for an additional two weeks to comment, DOE has decided to reopen the comment period for submitting comments and data in response to the NOPR regarding test procedures for small, large, and very large air-cooled commercial package air conditioning and heating equipment. The comment period is extended.

DATES: The comment period for the NOPR regarding test procedures for small, large, and very large air-cooled commercial package air conditioning and heating equipment published on August 6, 2015 (80 FR 46870) is reopened. DOE will accept comments, data, and information in response to the NOPR received no later than October 2, 2015.

ADDRESSES: Any comments submitted must identify the NOPR for Test Procedures for Small, Large, and Very Large Air-Cooled Commercial Package Air Conditioning and Heating Equipment, and provide docket number EERE-2015-BT-TP-0015 and/or regulatory information number (RIN) number 1904-AD54. Interested persons may submit comments using any of the following methods:

1. Federal eRulemaking Portal: www.regulations.gov. Follow the instructions for submitting comments.

2. Email: CommPkgACHeat2015TP0015@ee.doe.gov. Include the docket number EERE-2015-BT-TP-0015 and/or RIN 1904-AD54 in the subject line of the message.

3. Mail: Ms. Brenda Edwards, U.S. Department of Energy, Building Technologies Office, Mailstop EE-5B, 1000 Independence Avenue SW., Washington, DC 20585-0121. If possible, please submit all items on a compact disc (CD), in which case it is not necessary to include printed copies.

4. Hand Delivery/Courier: Ms. Brenda Edwards, U.S. Department of Energy, Building Technologies Office, 950 L'Enfant Plaza SW., Suite 600, Washington, DC 20024. Telephone: (202) 586-2945. If possible, please submit all items on a CD, in which case it is not necessary to include printed copies.

No telefacsimilies (faxes) will be accepted. For detailed instructions on submitting comments and additional information on the rulemaking process, see section V (Public Participation) of the August 6, 2015 NOPR for test procedures for small, large, and very large air-cooled commercial package air conditioning and heating equipment.

Docket: The docket, which includes Federal Register notices, public meeting attendee lists and transcripts, comments, and other supporting documents/materials, is available for review at www.regulations.gov. All documents in the docket are listed in the www.regulations.gov index. However, not all documents listed in the index may be publicly available, such as those containing information that is exempt from public disclosure.

A link to the docket Web page can be found at: [www.regulations.gov/#!docketDetail;D=EERE-2015-BT-TP-0015]. This Web page contains a link to the docket for this NOPR on the www.regulations.gov site. The www.regulations.gov Web page contains simple instructions on how to access all documents, including public comments, in the docket.

FOR FURTHER INFORMATION CONTACT: Ms. Ashley Armstrong, U.S. Department of Energy, Office of Energy Efficiency and Renewable Energy, Building Technologies Office, EE-5B, 1000 Independence Avenue SW., Washington, DC 20585-0121. Telephone: (202) 586-6590. Email: Ashley.Armstrong@ee.doe.gov.

Mr. Michael Kido, U.S. Department of Energy, Office of the General Counsel, GC-33, 1000 Independence Avenue SW., Washington, DC 20585-0121. Telephone: (202) 586-8145. Email: Michael.Kido@hq.doe.gov.

For further information on how to submit a comment or review other public comments and the docket, contact Ms. Brenda Edwards at (202) 586-2945 or by email: Brenda.Edwards@ee.doe.gov.

SUPPLEMENTARY INFORMATION: The Energy Policy and Conservation Act of 1975 (EPCA), as amended, requires DOE to conduct an evaluation of its test procedures at least once every seven years for each class of covered equipment (including the equipment that is the subject of this rulemaking) to determine if an amended test procedure would more accurately or fully comply with the requirement to be reasonably designed to produce test results that reflect the energy efficiency, energy use, and operating costs during a representative average use cycle. DOE must either prescribe amended test procedures or publish a notice in the Federal Register regarding its determination not to amend test procedures. (42 U.S.C. 6314(a)(1)-(2))

On August 6, 2015, DOE published a notice of proposed rulemaking (NOPR) in the Federal Register regarding potential amendments to the test procedures for small, large, and very large air-cooled commercial package air conditioning and heating equipment (80 FR 46870). The notice provided for the submission of written comments by September 8, 2015, and oral comments were also accepted at a public meeting held on September 4, 2015.

On September 4, 2015, DOE received a request from Goodman Manufacturing Co., seeking an additional two weeks to prepare and submit comments. On September 8, 2015, DOE received a request from Lennox International seeking an additional 30 days to review the technical aspects of the proposed test procedure. After careful consideration of this request, DOE has determined that extending the public comment period by reopening to allow additional time for interested parties to submit comments is appropriate based on the foregoing reasons. Accordingly, DOE has decided to grant the request and reopen the public comment period on the NOPR for test procedures for small, large, and very large air-cooled commercial package air conditioning and heating equipment for 15 days to allow for additional data and comments to be submitted, especially in light of the public meeting discussion on specific topics. Consequently, DOE will consider any comments in response to the NOPR received by midnight of October 2, 2015, and deems any comments received by that time to be timely submitted.

Issued in Washington, DC, on September 11, 2015.
Kathleen B. Hogan,
Deputy Assistant Secretary for Energy Efficiency, Energy Efficiency and Renewable Energy.

[FR Doc. 2015-23416 Filed 9-16-15; 8:45 am]

BILLING CODE 6450-01-P